DEPARTMENT OF THE TREASURY

Customs Service

Conclusion of the National Customs Automation Program Prototype

AGENCY: U.S. Customs Service, Treasury.

ACTION: General notice.

SUMMARY: This document announces Customs conclusion of the National Customs Automation Program Prototype (NCAP/P). Prototype operations must be discontinued due to the cessation of funding for the NCAP/P automated system. Upon prototype conclusion, NCAP/P participants must cease entering goods and transmitting data under NCAP/P procedures. This document also provides instructions to participants on procedures for processing prototype entries using non-NCAP/P systems.

DATE: Termination of the NCAP/P will be effective as of March 13, 2000. No new applications for participation will be accepted as of February 10, 2000.

FOR FURTHER INFORMATION CONTACT: Comments and requests regarding NCAP/P termination may be directed to Keith Fleming, U.S. Customs Service at (202) 927-1049, or Virginia Noordewier, U.S. Customs Service at (202) 927-3296.

SUPPLEMENTARY INFORMATION:

Background

The vision of the Automated Commercial Environment (ACE) is to establish a Trade Compliance Process that achieves high levels of compliance and reduces the cycle time required for imports to clear Customs. NCAP/P is the prototype for the first implementation of this automated process.

Customs first announced its intention to implement the NCAP/P in the Federal Register on March 27, 1997 (62 FR 14731); the test was modified with updated procedures in a notice published in the Federal Register on August 21, 1998 (63 FR 44949) which replaced the previous notice. Customs also published a notice in the Federal Register on October 15, 1998 (63 FR 55426), announcing the proposed expansion of the prototype to five additional ports of entry.

The NCAP/P plan called for a four-stage implementation of new cargo processing features over a period of up to three years. The NCAP/P commenced on April 27, 1998 with the implementation of the cargo release stage. Customs implemented the second stage on October 13, 1998, which provided for cargo release with examination. At the time of this termination, the third and fourth stages—entry summary/periodic payment and reconciliation—have not been implemented.

Procedures

Upon prototype conclusion, participants must immediately revert to non-NCAP/P processing for all cargo sAs of the date 30 days from the date of publication of this document in the Federal Register, cargo release must be obtained through existing non-NCAP/P systems or procedures.

B. Cargo releases previously obtained through NCAP/P must be followed up by summary data and payments transmitted through existing non-NCAP/P systems, e.g., the Automated Commercial System.

Prototype Evaluation

Upon the conclusion of the NCAP/P, an evaluation of the entire test will be conducted and the results published in the Federal Register and the Customs Bulletin.

Dated: February 4, 2000.
Charles W. Winwood,
Assistant Commissioner, Office of Field Operations.

[FR Doc. 00-3050 Filed 2-9-00; 8:45 am]

BILLING CODE 4820-02-P